DEPARTMENT OF EDUCATION

Office of Special Education and Rehabilitative Services; Overview Information; Technical Assistance and Dissemination To Improve Services and Results for Children With Disabilities—Projects for Children and Young Adults Who Are Deaf-Blind; Notice Inviting Applications for New Awards for Fiscal Year (FY) 2004

Catalog of Federal Domestic Assistance (CFDA) Number: 84.326C.

DATES: For dates regarding this priority, see the chart in the Award Information section of this notice.

Applications Available: See chart.

Deadline for Transmittal of Applications: See chart.

Deadline for Intergovernmental Review: See chart.

Eligible Applicants: State educational agencies (SEAs), local educational agencies (LEAs), institutions of higher education (IHEs), other public agencies, nonprofit private organizations, for-profit organizations, outlying areas, freely associated States, and Indian tribes or tribal organizations.

Estimated Available Funds: $1,789,000.

For funding information regarding individual States, see chart in the Award Information section of this notice.

Estimated Average Size of Awards: See chart.

Maximum Awards: See chart.

Estimated Number of Awards: See chart.

Project Period: See chart.

Full Text of Announcement

I. Funding Opportunity Description

Purpose of Program: This program provides technical assistance and information that (1) support States and local entities in building capacity to improve early intervention, educational, and transitional services and results for children with disabilities and their families; and (2) address goals and priorities for changing State systems that provide early intervention, educational, and transitional services for children with disabilities and their families.

Priority: In accordance with 34 CFR 75.105(b)(2)(iv), this priority is from allowable activities specified in the statute (see sections 661(e)(2) and 685 of the Individuals with Disabilities Education Act (IDEA)).

Absolute Priority: For FY 2004 this priority is an absolute priority. Under 34 CFR 75.105(c)(3), we consider only applications that meet this priority.

Background

IDEA includes provisions designed to ensure that each child with a disability is provided a high-quality individual program of services to meet his or her developmental and educational needs. For children who are deaf and blind to receive such services, intensive technical assistance must be afforded SEAs and LEAs, parents, and professionals regarding appropriate educational placements, accommodations, environmental adaptations, support services, and other matters. In addition, given the severity of deaf-blindness and the low-incidence nature of this population, many early intervention programs or local school districts lack personnel with the training or experience to serve children who are deaf-blind.

Text of Priority: This priority supports projects to build the capacity of SEAs and LEAs, parents, and professionals to improve outcomes for children and young adults who are deaf-blind and their families, by providing technical assistance, information, and training on early intervention, special education, related services, and transitional services. Projects must:

(a) Identify and support specific activities to, at a minimum—

(1) Enhance State capacity to improve services and results for children who are deaf-blind;

(2) Facilitate the achievement of systemic-change goals by improving education opportunities for children who are deaf-blind;

(3) Focus on implementation of research-based best practices;

(4) Ensure that service providers have the necessary skills to address the unique needs of children who are deaf-blind; and

(5) Address the needs of families of children who are deaf-blind.

(b) Maintain needs assessment information to develop Statewide priorities for technical assistance, information, and training across all age ranges by —

(1) Collecting basic demographic information on children who are deaf-blind;

(2) Assessing the critical needs of these children; and

(3) Assessing current needs of the State in providing services to children who are deaf-blind and their families.

(c) Develop and implement procedures to evaluate the impact of program activities on services and outcomes for children and young adults who are deaf-blind and their families by—

(1) Evaluating the effectiveness of strategies in achieving program goals and objectives;

(2) Including measures of change in outcomes for children; and

(3) Consulting with the project's advisory committee regarding the development of the evaluation procedures.

(d) Coordinate and collaborate with SEAs, and other relevant agencies and organizations, including other projects serving children who are deaf-blind under IDEA. This includes specific collaboration activities with the National Clearinghouse on Deaf-Blindness (DB-LINK) and the Technical Assistance Consortium with Children and Young Adults with Deaf-Blindness (NTAC).

(e) Disseminate effective practices and relevant information to families, service providers, LEAs, and agencies.

(f) Prior to developing any new product, whether paper or electronic, submit for approval a proposal describing the content and purpose of the product to the document review board of the Office of Special Education Programs' (OSEP) Dissemination Center.

(g) Provide OSEP-specified technical assistance to States. This effort may include: (1) Participation in collaborative Web-based technical assistance activities, or (2) coordination of and participation in State-to-State communities of practice.

(h) Establish and maintain an advisory committee to assist in promoting project activities. Each committee must include at least one adult with deaf-blindness and one student with deaf-blindness, a parent of a child with deaf-blindness, a representative of each SEA and each State lead agency under Part C of IDEA in the State (or States) served by the project, and a limited number of professionals with training and experience in serving children with deaf-blindness.

Funds awarded under this priority may not be used for direct early intervention, special education, or related services provided under Parts B and C of IDEA.

During year two of the project period, each grantee must conduct a comprehensive self-evaluation of the project. The self-evaluation must include a review of the degree to which the project is meeting the proposed objectives and goals and an evaluation of the outcome data. In addition, the Department intends to conduct a limited number of on-site evaluations based on a stratified randomized sample of sites. Costs associated with this on-site evaluation are estimated to be $6,500 and should be included in the project's second year budget.

Waiver of Proposed Rulemaking: Under the Administrative Procedure Act (5 U.S.C. 553), the Department generally offers interested parties the opportunity to comment on proposed priorities. However, section 661(e)(2) of IDEA makes the public comment requirements inapplicable to the priority in this notice.

Program Authority: 20 U.S.C. 1485.

Applicable Regulations: The Education Department General Administrative Regulations (EDGAR) in 34 CFR parts 74, 75, 77, 79, 80, 81, 82, 84, 85, 86, 97, 98, and 99.

Note: The regulations in 34 CFR part 79 apply to all applicants except federally recognized Indian tribes.

Note: The regulations in 34 CFR part 86 apply to institutions of higher education only.

II. Award Information

Type of Award: Discretionary Grants.

Estimated Available Funds: $1,789,000.

For funding information regarding individual States, see chart in the Award Information section of this notice.

Estimated Average Size of Awards: See chart.

Maximum Awards: See chart.

Estimated Number of Awards: See chart.

Project Period: See chart.

Individuals With Disabilities Education Act Application Notice for Fiscal Year 2004
CFDA No. and name | Applications available | Deadline for transmittal of applications | Deadline for intergovernmental review | Estimated available funds | Estimated average size of awards | Maximum award (per year) | Estimated number of awards | Project period
84.326C Projects for Children and Young Adults who are Deaf-Blind | March 16, 2004 | April 19, 2004 | June 11, 2004 | $1,789,000 | $138,000 |  | 13 | Up to 48 mos.
Arkansas |  |  |  |  |  | $118,534 |  |
Iowa |  |  |  |  |  | 97,054 |  |
Idaho |  |  |  |  |  | 85,303 |  |
Kentucky |  |  |  |  |  | 165,145 |  |
Michigan |  |  |  |  |  | 256,289 |  |
North Carolina |  |  |  |  |  | 313,649 |  |
Wisconsin |  |  |  |  |  | 173,484 |  |
Rhode Island |  |  |  |  |  | 79,368 |  |
South Dakota |  |  |  |  |  | 101,746 |  |
Tennessee |  |  |  |  |  | 238,451 |  |
Wyoming |  |  |  |  |  | 65,000 |  |
District of Columbia |  |  |  |  |  | 65,000 |  |
Virgin Islands |  |  |  |  |  | 30,000 |  |
* The Secretary may make awards under the priority described in the Priority section of this notice to support single or multi-State projects. A State may be served by only one supported project. In determining the maximum funding levels for each State the Secretary considers, among other things, the following factors: (1) Total number of children from birth through age 21 in the State; (2) Number of people in poverty in the State; (3) Previous funding levels; and (4) Maximum and minimum funding amounts. We will reject an application for a State project that proposes a budget exceeding the funding level for a single budget period of 12 months. In the event an applicant proposes a multi-State project, the budget may not exceed the sum for individual participating States. The Assistant Secretary for the Office of Special Education and Rehabilitative Services may change the maximum amount through a notice published in the Federal Register.
Note: The Department is not bound by any estimates in this notice.

III. Eligibility Information

1. Eligible Applicants: SEAs; LEAs; IHEs; other public agencies; nonprofit private organizations; for-profit organizations; outlying areas; freely associated States; and Indian tribes or tribal organizations.

2. Cost Sharing or Matching: This competition does not involve cost sharing or matching.

3. Other: General Requirements—(a) The projects funded under this notice must make positive efforts to employ and advance in employment qualified individuals with disabilities (see section 606 of IDEA).

(b) Applicants and grant recipients funded under this notice must involve individuals with disabilities or parents of individuals with disabilities in planning, implementing, and evaluating the projects (see section 661(f)(1)(A) of IDEA).

(c) The projects funded under this priority must budget for a two-day Project Directors' meeting in Washington, DC during each year of the project.

(d) If a project maintains a Web site, it must include relevant information and documents in an accessible form.

IV. Application and Submission Information

1. Address to Request Application Package: Education Publications Center (ED Pubs), P.O. Box 1398, Jessup, MD 20794-1398. Telephone (toll free): 1-877-433-7827. FAX: 1-301-470-1244. If you use a telecommunications device for the deaf (TDD), you may call (toll free): 1-877-576-7734.

You may also contact ED Pubs at its Web site: http://www.ed.gov/pubs/edpubs.html or you may contact ED Pubs at its e-mail address: edpubs@inet.ed.gov

If you request an application from ED Pubs, be sure to identify this competition as follows: CFDA number 84.326C.

Individuals with disabilities may obtain a copy of the application package in an alternative format (e.g., Braille, large print, audiotape, or computer diskette) by contacting the Grants and Contracts Services Team listed in section VII of this notice.

2. Content and Form of Application Submission: Requirements concerning the content of an application, together with the forms you must submit, are in the application package for this competition.

Page Limit: The application narrative (Part III of the application) is where you, the applicant, address the selection criteria that reviewers use in evaluating your application. You must limit Part III to the equivalent of no more than 70 pages, using the following standards:

• A “page” is 8.5″ x 11″ on one side only, with 1″ margins at the top, bottom, and both sides.

• Double space (no more than three lines per vertical inch) all text in the application narrative, including titles, headings, footnotes, quotations, and captions, as well as all text in charts, tables, figures, and graphs.

• Use a font that is either 12-point or larger or no smaller than 10 pitch (characters per inch).

The page limit does not apply to Part I, the cover sheet; Part II, the budget section, including the narrative budget justification; Part IV, the assurances and certifications; or the one-page abstract, the resumes, the bibliography, the references, or the letters of support. However, you must include all of the application narrative in Part III.

We will reject your application if—

• You apply these standards and exceed the page limit; or

• You apply other standards and exceed the equivalent of the page limit.

3. Submission Dates and Times:

Applications Available: See chart.

Deadline for Transmittal of Applications: See chart.

The dates and times for the transmittal of applications by mail or by hand (including a courier service or commercial carrier) are in the application package for this competition. The application package also specifies the hours of operation of the e-Application Web site. We do not consider an application that does not comply with the deadline requirements.

Deadline for Intergovernmental Review: See chart.

4. Intergovernmental Review: This program is subject to Executive Order 12372 and the regulations in 34 CFR part 79. Information about Intergovernmental Review of Federal Programs under Executive Order 12372 is in the application package for this competition.

5. Funding Restrictions: We reference additional regulations outlining funding restrictions under the Applicable Regulations heading, in section I of this notice.

6. Other Submission Requirements: Instructions and requirements for the transmittal of applications by mail or by hand (including a courier service or commercial carrier) are in the application package for this competition.

Note: Some of the procedures in these instructions for transmitting applications differ from those in the Education Department General Administrative Regulations (EDGAR) (34 CFR 75.102). Under the Administrative Procedure Act (5 U.S.C. 553) the Department generally offers interested parties the opportunity to comment on proposed regulations. However, these amendments make procedural changes only and do not establish new substantive policy. Therefore, under 5 U.S.C. 553(b)(A), the Secretary has determined that proposed rulemaking is not required.

Pilot Project for Electronic Submission of Applications: We are continuing to expand our pilot project for electronic submission of applications to include additional formula grant programs and additional discretionary grant competitions. Special Education—Technical Assistance and Dissemination to Improve Services and Results for Children with Disabilities program—CFDA Number 84.326C is one of the competitions included in the pilot project. If you are an applicant under the Special Education—Technical Assistance and Dissemination to Improve Services and Results for Children with Disabilities program—CFDA Number 84.326C competition, you may submit your application to us in either electronic or paper format.

The pilot project involves the use of the Electronic Grant Application System (e-Application). If you use e-Application, you will be entering data online while completing your application. You may not e-mail an electronic copy of a grant application to us. If you participate in this voluntary pilot project by submitting an application electronically, the data you enter online will be saved into a database. We request your participation in e-Application. We shall continue to evaluate its success and solicit suggestions for its improvement.

If you participate in e-Application, please note the following:

• Your participation is voluntary.

• When you enter the e-Application system, you will find information about its hours of operation. We strongly recommend that you do not wait until the application deadline date to initiate an e-Application package.

• You will not receive additional point value because you submit a grant application in electronic format, nor will we penalize you if you submit an application in paper format.

• You may submit all documents electronically, including the Application for Federal Education Assistance (ED 424), Budget Information—Non-Construction Programs (ED 524), and all necessary assurances and certifications.

• Your e-Application must comply with any page limit requirements described in this notice.

• After you electronically submit your application, you will receive an automatic acknowledgement, which will include a PR/Award number (an identifying number unique to your application).

• Within three working days after submitting your electronic application, fax a signed copy of the Application for Federal Education Assistance (ED 424) to the Application Control Center after following these steps:

1. Print ED 424 from e-Application.

2. The institution's Authorizing Representative must sign this form.

3. Place the PR/Award number in the upper right hand corner of the hard copy signature page of the ED 424.

4. Fax the signed ED 424 to the Application Control Center at 1-202-260-1349.

• We may request that you give us original signatures on other forms at a later date.

Application Deadline Date Extension in Case of System Unavailability: If you elect to participate in the e-Application pilot for the Special Education-Technical Assistance and Dissemination to Improve Services and Results for Children with Disabilities program—CFDA Number 84.326C competition and you are prevented from submitting your application on the application deadline date because the e-Application system is unavailable, we will grant you an extension of one business day in order to transmit your application electronically, by mail, or by hand delivery. We will grant this extension if—

1. You are a registered user of e-Application, and you have initiated an e-Application for this competition; and

2. (a) The e-Application system is unavailable for 60 minutes or more between the hours of 8:30 a.m. and 3:30 p.m., Washington, DC time, on the application deadline date; or

(b) The e-Application system is unavailable for any period of time during the last hour of operation (that is, for any period of time between 3:30 p.m. and 4:30 p.m., Washington, DC time) on the application deadline date.

We must acknowledge and confirm these periods of unavailability before granting you an extension. To request this extension or to confirm our acknowledgement of any system unavailability, you may contact either (1) the persons listed elsewhere in this notice under FOR FURTHER INFORMATION CONTACT (see VII. Agency Contact) or (2) the e-GRANTS help desk at 1-888-336-8930.

You may access the electronic grant application for the Special Education-Technical Assistance and Dissemination to Improve Services and Results for Children with Disabilities program—CFDA Number 84.326C competition at: http://e-grants.ed.gov

V. Application Review Information

1. Selection Criteria: The selection criteria for this competition are in 34 CFR 75.210 of EDGAR. The specific selection criteria to be used for this competition are in the application package.

2. Review and Selection Process: In making awards under this priority, the Secretary shall consider the proposed availability of services for children with deaf-blindness in all areas of the country.

VI. Award Administration Information

1. Award Notices: If your application is successful, we notify your U.S. Representative and U.S. Senators and send you a Grant Award Notice (GAN). We may also notify you informally.

If your application is not evaluated or not selected for funding, we notify you.

2. Administrative and National Policy Requirements: We identify administrative and national policy requirements in the application package and reference these and other requirements under the Applicable Regulations heading, in section I of this notice.

We reference the regulations outlining the terms and conditions of an award under the Applicable Regulations heading, in section I of this notice and include these and other specific conditions in the GAN. The GAN also incorporates your approved application as part of your binding commitments under the grant.

3. Reporting: At the end of your project period, you must submit a final performance report, including financial information, as directed by the Secretary. If you receive a multi-year award, you must submit an annual performance report that provides the most current performance and financial expenditure information as specified by the Secretary in 34 CFR 75.118.

4. Performance Measures: Under the Government Performance and Results Act (GPRA), the Department is currently developing measures that will yield information on various aspects of the quality of the Technical Assistance to Improve Services and Results for Children with Disabilities program (e.g., the extent to which projects use high quality methods and materials, provide useful products and services, and contribute to improving results for children with disabilities (States report improved ability to provide technical assistance as a result of projects and demonstrate improved results for children with disabilities)). Data on these measures will be collected from the projects funded under this notice.

Grantees will also be required to report information on their projects' performance in annual reports to the Department (EDGAR, 34 CFR 75.590).

VII. Agency Contact

FOR FURTHER INFORMATION CONTACT: The Grants and Contracts Services Team, U.S. Department of Education, 400 Maryland Avenue, SW., room 3317, Switzer Building, Washington, DC 20202-2550. Telephone: 1-202-205-8207.

If you use a telecommunications device for the deaf (TDD), you may call the Federal Information Relay Service (FIRS) at 1-800-877-8339.

Individuals with disabilities may obtain this document in an alternative format (e.g., Braille, large print, audiotape, or computer diskette) on request to the Grants and Contracts Services Team listed in this section.

VIII. Other Information

Electronic Access to This Document: You may view this document, as well as all other documents of this Department published in the Federal Register, in text or Adobe Portable Document Format (PDF) on the Internet at the following site: http://www.ed.gov/news/fedregister.

To use PDF you must have Adobe Acrobat Reader, which is available free at this site. If you have questions about using PDF, call the U.S. Government Printing Office (GPO), toll free, at 1-888-293-6498; or in the Washington, DC, area at 1-202-512-1530.

Note: The official version of this document is the document published in the Federal Register. Free Internet access to the official edition of the Federal Register and the Code of Federal Regulations is available on GPO Access at: http://www.gpoaccess.gov/nara/index.html.

Dated: March 10, 2004.
Troy R. Justesen,
Acting Deputy Assistant Secretary for Special Education and Rehabilitative Services.

[FR Doc. 04-5823 Filed 3-12-04; 8:45 am]

BILLING CODE 4000-01-P